DEPARTMENT OF COMMERCE

International Trade Administration

Export Trade Certificate of Review

ACTION: Notice of issuance of an amended Export Trade Certificate of Review, application No. 99-2A005.

SUMMARY: On June 17, 2004, The Department of Commerce issued an amended Export Trade Certificate of Review to California Almond Export Association, LLC (“CAEA”).

FOR FURTHER INFORMATION CONTACT: Jeffrey C. Anspacher, Director, Office of Export Trading Company Affairs, International Trade Administration, (202) 482-5131 (this is not a toll-free number) or E-mail at oetca@ita.doc.gov.

SUPPLEMENTARY INFORMATION: Title III of the Export Trading Company Act of 1982 (15 U.S.C. sections 4001-21) authorizes the Secretary of Commerce to issue Export Trade Certificates of Review. The regulations implementing Title III are found at 15 CFR part 325 (2003).

The Office of Export Trading Company Affairs (“OETCA”) is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 99-00005, was issued to CAEA on December 27, 1999 (65 FR 760, January 6, 2000) and previously amended on June 25, 2001 (66 FR 34912, July 2, 2001).

CAEA's Export Trade Certificate of Review has been amended to:

1. Add each of the following companies as a new “Member” of the Certificate within the meaning of section 325.2(1) of the Regulations (15 CFR 325.2(1)): Nutco, LLC doing business as Spycher Brothers, Turlock, California; and Treehouse California Almonds, LLC, Los Angeles, California;

2. Change the listing of the following Members: “A&P Growers Cooperative, Inc., Tulare, California” to the new listing “A&P Growers Cooperative, Inc., Clovis, California”; “Del Rio Nut Company, Livingston, California” to the new listing “Del Rio Nut Company, Inc., Livingston, California”; “Hilltop Ranch, Ballico, California” to the new listing “Hilltop Ranch, Inc., Ballico, California”; “Hughson Nut Company, Hughson, California” to the new listing “Hughson Nut, Inc., Hughson, California”; and “Minturn Nut Company, LeGrand, California” to the new listing “Minturn Nut Company, Inc., LeGrand, California”; and

3. Delete the following companies as “Members” of the Certificate: Calcot, Ltd., Bakersfield, California; California Independent Almond Growers, Ballico, California; and Kindle Nut Company, Denair, California.

The effective date of the amended certificate is March 23, 2004. A copy of the amended certificate will be kept in the International Trade Administration's Freedom of Information Records Inspection Facility, room 4102, U.S. Department of Commerce, 14th Street and Constitution Avenue, NW., Washington, DC 20230.

Dated: June 21, 2004.
Vanessa M. Bachman,
Acting Director, Office of Export Trading, Company Affairs.

[FR Doc. 04-14405 Filed 6-24-04; 8:45 am]

BILLING CODE 3510-DR-P